DEPARTMENT OF ENERGY

Federal Energy Regulatory Commission

[Project No. 13858-000]

Central Oregon Irrigation District; Notice of Competing Preliminary Permit Application Accepted for Filing and Soliciting Comments and Interventions

November 22, 2010.

On October 6, 2010, Central Oregon Irrigation District filed an application for a preliminary permit, pursuant to section 4(f) of the Federal Power Act, proposing to study the feasibility of the Cline Falls Hydroelectric Project located at the Cline Falls diversion dam on the Deschutes River in Deschutes County, Oregon. The sole purpose of a preliminary permit, if issued, is to grant the permit holder priority to file a license application during the permit term. A preliminary permit does not authorize the permit holder to perform any land disturbing activities or otherwise enter upon lands or waters owned by others without the owners' express permission.

The proposed project would consist of the following existing and proposed facilities: (1) The existing 300-foot-long, 5-foot-high diversion structure; (2) a pool upstream of the diversion structure with a storage capacity of approximately 2-acre-feet; (3) a wooded radial gate for diversion control; (4) a 400-foot-long lined canal and flume channel; (5) a 45-foot-long, 8-foot-diameter steel penstock; (6) a powerhouse containing one 750-kW turbine/generator; (7) a tailrace leading from the rock chamber located under the turbine and a short tailrace to the river; (8) and appurtenant facilities. The proposed project would have an average annual generation of 2 gigawatt-hours.

Applicant Contact: Steven C. Johnson, 1055 SW., Lake Court, Redmond, OR 97756; phone: (541) 548-6047, e-mail: stevej@coid.org.

FERC Contact: Kelly Wolcott (202) 502-6480.

Competing Applications: This application competes with Project No. 13686-000 filed March 23, 2010.

Deadline for filing comments and motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13858) in the docket number field to access the document. For assistance, contact FERC Online Support.

Kimberly D. Bose,
Secretary.

[FR Doc. 2010-30247 Filed 11-30-10; 8:45 am]

BILLING CODE 6717-01-P